DEPARTMENT OF ENERGY

Federal Energy Regulatory Commission

Combined Notice of Filings #1

Take notice that the Commission received the following electric corporate filings:

Docket Numbers: EC25-118-000.

Applicants: Innovative Solar 42, LLC.

Description: Application for Authorization Under Section 203 of the Federal Power Act of Innovative Solar 42, LLC.

Filed Date: 7/22/25.

Accession Number: 20250722-5169.

Comment Date: 5 p.m. ET 8/12/25.

Docket Numbers: EC25-119-000.

Applicants: IIF US Holding 2 LP, on behalf of its Public Utility Subsidiaries.

Description: Application for Authorization Under Section 203 of the Federal Power Act of IIF US Holding 2 LP.

Filed Date: 7/22/25.

Accession Number: 20250722-5174.

Comment Date: 5 p.m. ET 8/12/25.

Docket Numbers: EC25-120-000.

Applicants: Carousel Wind, LLC, Carousel Wind Farm, LLC.

Description: Joint Application for Authorization Under Section 203 of the Federal Power Act of Carousel Wind, LLC, et al.

Filed Date: 7/22/25.

Accession Number: 20250722-5175.

Comment Date: 5 p.m. ET 8/12/25.

Take notice that the Commission received the following exempt wholesale generator filings:

Docket Numbers: EG25-400-000.

Applicants: Bowman Wind, LLC.

Description: Bowman Wind, LLC submits Notice of Self-Certification of Exempt Wholesale Generator Status.

Filed Date: 7/23/25.

Accession Number: 20250723-5026.

Comment Date: 5 p.m. ET 8/13/25.

Docket Numbers: EG25-401-000.

Applicants: Lotus Wind, LLC.

Description: Lotus Wind, LLC submits Notice of Self-Certification of Exempt Wholesale Generator Status.

Filed Date: 7/23/25.

Accession Number: 20250723-5028.

Comment Date: 5 p.m. ET 8/13/25.

Docket Numbers: EG25-402-000.

Applicants: Lafitte Solar, LLC.

Description: Lafitte Solar, LLC submits Notice of Self-Certification of Exempt Wholesale Generator Status.

Filed Date: 7/23/25.

Accession Number: 20250723-5090.

Comment Date: 5 p.m. ET 8/13/25.

Docket Numbers: EG25-403-000.

Applicants: Rush Springs Solar, LLC.

Description: Rush Springs Solar, LLC submits Notice of Self-Certification of Exempt Wholesale Generator Status.

Filed Date: 7/23/25.

Accession Number: 20250723-5092.

Comment Date: 5 p.m. ET 8/13/25.

Docket Numbers: EG25-404-000.

Applicants: Pierce County Energy Center, LLC.

Description: Pierce County Energy Center, LLC submits Notice of Self-Certification of Exempt Wholesale Generator Status.

Filed Date: 7/23/25.

Accession Number: 20250723-5093.

Comment Date: 5 p.m. ET 8/13/25.

Take notice that the Commission received the following electric rate filings:

Docket Numbers: ER10-2374-022; ER17-2059-013.

Applicants: Puget Sound Energy, Inc., Puget Sound Energy, Inc.

Description: Supplement to 04/30/2025, Notice of Non-Material Change in Status of Puget Sound Energy, Inc., et al.

Filed Date: 7/23/25.

Accession Number: 20250723-5050.

Comment Date: 5 p.m. ET 8/13/25.

Docket Numbers: ER11-3377-015; ER11-3376-014; ER11-3378-015; ER19-2429-012.

Applicants: Brookfield Smoky Mountain Hydropower LP, South Hurlburt Wind, LLC, North Hurlburt Wind, LLC, Horseshoe Bend Wind, LLC.

Description: Notice of Non-Material Change in Status of Horseshoe Bend Wind, LLC, et al.

Filed Date: 7/22/25.

Accession Number: 20250722-5179.

Comment Date: 5 p.m. ET 8/12/25.

Docket Numbers: ER19-2822-001; ER15-1065-004; ER15-1676-004; ER19-2460-002; ER20-1014-002; ER20-1015-002; ER20-2458-002; ER21-285-002; ER23-2813-002; ER24-1386-001.

Applicants: Bartonsville Energy Facility, LLC, Castle Solar, LLC, Sigurd Solar LLC, Hunter Solar LLC, Cove Mountain Solar 2, LLC, Cove Mountain Solar, LLC, DWW Solar II, LLC, Balko Wind Transmission, LLC, Balko Wind, LLC, Airport Solar LLC.

Description: Supplement to 01/31/2025, Notice of Change in Status of Airport Solar LLC, et al.

Filed Date: 7/17/25.

Accession Number: 20250717-5136.

Comment Date: 5 p.m. ET 8/7/25.

Docket Numbers: ER21-1133-007; ER10-1618-022.

Applicants: Rolling Hills Generating, L.L.C., Hummel Station, LLC.

Description: Notice of Change in Status of Hummel Station, LLC, et al.

Filed Date: 7/22/25.

Accession Number: 20250722-5184.

Comment Date: 5 p.m. ET 8/12/25.

Docket Numbers: ER22-1627-008; ER22-398-007.

Applicants: Mesa Wind Power LLC, AM Wind Repower LLC.

Description: Notice of Non-Material Change in Status of AM Wind Repower LLC, et al.

Filed Date: 7/22/25.

Accession Number: 20250722-5180.

Comment Date: 5 p.m. ET 8/12/25.

Docket Numbers: ER25-2440-001.

Applicants: Basin Electric Power Cooperative, Southwest Power Pool, Inc.

Description: Tariff Amendment: Basin Electric Power Cooperative submits tariff filing per 35.17(b): Basin Electric's Amended Formula Rate Revisions to Implement Rate Incentives to be effective 8/1/2025.

Filed Date: 7/23/25.

Accession Number: 20250723-5039.

Comment Date: 5 p.m. ET 8/13/25.

Docket Numbers: ER25-2507-000.

Applicants: Ventasso Energy Storage, LLC.

Description: Supplement to 06/12/2025, Ventasso Energy Storage, LLC tariff filing.

Filed Date: 7/10/25.

Accession Number: 20250710-5168.

Comment Date: 5 p.m. ET 7/31/25.

Docket Numbers: ER25-2945-000.

Applicants: Route 66 Solar Energy Center, LLC.

Description: § 205(d) Rate Filing: Filing of Shared Facilities Agreement to be effective 9/1/2025.

Filed Date: 7/22/25.

Accession Number: 20250722-5148.

Comment Date: 5 p.m. ET 8/12/25.

Docket Numbers: ER25-2946-000.

Applicants: Origin Wind Energy, LLC.

Description: § 205(d) Rate Filing: Origin Wind Energy, LLC Revised MBR Tariff to be effective 7/23/2025.

Filed Date: 7/22/25.

Accession Number: 20250722-5166.

Comment Date: 5 p.m. ET 8/12/25.

Docket Numbers: ER25-2947-000.

Applicants: Tucson Electric Power Company.

Description: § 205(d) Rate Filing: Rate Schedule No. 359 to be effective 7/23/2025.

Filed Date: 7/22/25.

Accession Number: 20250722-5164.

Comment Date: 5 p.m. ET 8/12/25.

Docket Numbers: ER25-2949-000.

Applicants: Midcontinent Independent System Operator, Inc., Ameren Transmission Company of Illinois.

Description: § 205(d) Rate Filing: Ameren Transmission Company of Illinois submits tariff filing per 35.13(a)(2)(iii: 2025-07-23_SA 4538 ATXI-MEC JOA to be effective 9/22/2025.

Filed Date: 7/23/25.

Accession Number: 20250723-5019.

Comment Date: 5 p.m. ET 8/13/25.

Docket Numbers: ER25-2950-000.

Applicants: Southwest Power Pool, Inc., Southwestern Power Administration.

Description: § 205(d) Rate Filing: Southwestern Power Administration submits tariff filing per 35.13(a)(2)(iii: Submission of Changes to the Southwestern Power Admin Pricing Zone Rates to be effective 6/1/2025.

Filed Date: 7/23/25.

Accession Number: 20250723-5025.

Comment Date: 5 p.m. ET 8/13/25.

Docket Numbers: ER25-2951-000.

Applicants: Wheelabrator Portsmouth Inc.

Description: Tariff Amendment: Notice of Cancellation of Market-Based Rate Tariff to be effective 7/24/2025.

Filed Date: 7/23/25.

Accession Number: 20250723-5042.

Comment Date: 5 p.m. ET 8/13/25.

Docket Numbers: ER25-2952-000.

Applicants: Dominion Energy South Carolina, Inc.

Description: § 205(d) Rate Filing: CEPC Emergency Aid Agreement to be effective 9/22/2025.

Filed Date: 7/23/25.

Accession Number: 20250723-5047.

Comment Date: 5 p.m. ET 8/13/25.

Docket Numbers: ER25-2953-000.

Applicants: New England Power Pool Participants Committee.

Description: § 205(d) Rate Filing: 134th Agreement to be effective 10/1/2025.

Filed Date: 7/23/25.

Accession Number: 20250723-5052.

Comment Date: 5 p.m. ET 8/13/25.

Docket Numbers: ER25-2954-000.

Applicants: PJM Interconnection, L.L.C.

Description: § 205(d) Rate Filing: Ministerial Clean-Up Revisions for ER24-3135-000 to be effective 3/31/2025.

Filed Date: 7/23/25.

Accession Number: 20250723-5057.

Comment Date: 5 p.m. ET 8/13/25.

Docket Numbers: ER25-2955-000.

Applicants: Southwest Power Pool, Inc.

Description: § 205(d) Rate Filing: Revisions to Clarify How LMPs are Calculated During System Outage or Market Hold to be effective 9/22/2025.

Filed Date: 7/23/25.

Accession Number: 20250723-5084.

Comment Date: 5 p.m. ET 8/13/25.

Docket Numbers: ER25-2956-000.

Applicants: Direct Energy Marketing LLC.

Description: Compliance filing: Notice of Succession and Request for Waiver to be effective 7/24/2025.

Filed Date: 7/23/25.

Accession Number: 20250723-5098.

Comment Date: 5 p.m. ET 8/13/25.

Docket Numbers: ER25-2957-000.

Applicants: Central Maine Power Company.

Description: § 205(d) Rate Filing: Executed Amended SGIA Between Central Maine Power and CPV Spruce Mountain Wind to be effective 6/27/2025.

Filed Date: 7/23/25.

Accession Number: 20250723-5101.

Comment Date: 5 p.m. ET 8/13/25.

Docket Numbers: ER25-2958-000.

Applicants: Tri-State Generation and Transmission Association, Inc.

Description: § 205(d) Rate Filing: Amendment to Service Agreement No. 864, WAPA to be effective 9/22/2025.

Filed Date: 7/23/25.

Accession Number: 20250723-5103.

Comment Date: 5 p.m. ET 8/13/25.

Docket Numbers: ER25-2959-000.

Applicants: Tri-State Generation and Transmission Association, Inc.

Description: § 205(d) Rate Filing: Initial Filing of Rate Schedule FERC No. 420 to be effective 9/22/2025.

Filed Date: 7/23/25.

Accession Number: 20250723-5105.

Comment Date: 5 p.m. ET 8/13/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes.

For public inquiries and assistance with making filings such as interventions, comments, or requests for rehearing, the public is encouraged to contact OPP at (202) 502-6595 or OPP@ferc.gov.

Dated: July 23, 2025.
Carlos D. Clay,
Deputy Secretary.

[FR Doc. 2025-14169 Filed 7-25-25; 8:45 am]

BILLING CODE 6717-01-P